DEPARTMENT OF HEALTH AND HUMAN SERVICES

Centers for Medicare & Medicaid Services

[CMS-1307-CN]

RIN 0938-ZA74

Medicare Program; Criteria and Standards for Evaluating Intermediary, Carrier, and Durable Medical Equipment, Prosthetics, Orthotics, and Supplies (DMEPOS) Regional Carrier Performance During Fiscal Year 2006; Correction Notice

AGENCY: Centers for Medicare & Medicaid Services (CMS), HHS.

ACTION: Correction notice.

SUMMARY: This document corrects technical errors that appeared in the general notice with comment period published in the Federal Register on September 23, 2005 entitled “Medicare Program; Criteria and Standards for Evaluating Intermediary, Carrier, and Durable Medical Equipment, Prosthetics, Orthotics and Supplies (DMEPOS) Regional Carrier Performance During Fiscal Year 2006.”

EFFECTIVE DATE: This correction is effective October 1, 2005.

FOR FURTHER INFORMATION CONTACT: Richard Johnson, (410) 786-5633.

SUPPLEMENTARY INFORMATION:

I. Background

In FR Doc. 05-18923 of September 23, 2005 (70 FR 55887), there were technical errors that are identified and corrected in the Correction of Errors section below.

II. Correction of Errors

In FR Doc. 05-18923 of September 23, 2005 (70 FR 55887), make the following corrections:

1. On page 55887, in the third column, second paragraph, lines 2 and 3, the date “October 24, 2005” is corrected to read “October 1, 2005.”

2. On page 55888, in the first column, first paragraph, lines 2 through 4, the phrase “beginning on the first day of the first month following publication of this notice in the Federal Register” is corrected to read, “October 31, 2005'.

3. On page 55888, in the first column, fourth paragraph, lines 5 and 6, the Web site address “or to http://www.regulations.gov” is deleted.

(Catalog of Federal Domestic Assistance Program No. 93.774, Medicare—Supplementary Medical Insurance Program)
Dated: September 26, 2005.
Jacquelyn Y. White,
Director, Office of Strategic Operations and Regulatory Affairs.

[FR Doc. 05-19611 Filed 9-29-05; 8:45 am]

BILLING CODE 4120-01-P